DEPARTMENT OF LABOR

Occupational Safety and Health Administration

[Docket No. OSHA-2012-0020]

Whistleblower Protection Advisory Committee (WPAC)

AGENCY: Occupational Safety and Health Administration (OSHA), Labor.

ACTION: Announcement of WPAC meeting.

SUMMARY: WPAC will meet January 29, 2013, in Washington, DC.

DATES: WPAC meeting. WPAC will meet from 10:30 a.m. to 5 p.m. on Tuesday, January 29, 2013.

Submission of comments, requests to speak, speaker presentations and requests for special accommodations. Comments, requests to speak at the WPAC meeting, speaker presentations and requests for special accommodations for the WPAC must be submitted (postmarked, sent, transmitted) by January 18, 2013.

ADDRESSES: WPAC meeting. WPAC will meet in Room N4437 A/B/C, U.S. Department of Labor, Francis Perkins Building, 200 Constitution Avenue NW., Washington, DC 20210.

Submission of comments, requests to speak and speaker presentations. You may submit comments, requests to speak at the WPAC meeting and speaker presentations, identified by the docket number in this Federal Register notice (Docket No. OSHA-2012-0020), by one of the following methods:

Electronically. You may submit materials, including attachments, electronically at http://www.regulations.gov, the Federal eRulemaking Portal. Follow the online instructions for making submissions.

Facsimile. If your submission, including attachments, does not exceed 10 pages, you may fax it to the OSHA Docket Office at (202) 693-1648.

Mail, express delivery, messenger or courier service. You may submit your materials to the OSHA Docket Office, Docket No. OSHA-2012-0020, Room N-2625, U.S. Department of Labor, 200 Constitution Avenue NW., Washington, DC 20210; telephone (202) 693-2350 (TTY (877) 889-5627). Deliveries (hand, express mail, messenger, courier service) are accepted during the Department of Labor's and OSHA Docket Office's normal business hours, 8:15 a.m. to 4:45 p.m., e.t., weekdays.

Requests for special accommodations. Please submit requests for special accommodations for the WPAC meeting to Ms. Veneta Chatmon, OSHA, Office of Communications, Room N-3647, U.S. Department of Labor, 200 Constitution Avenue NW., Washington, DC 20210; telephone (202) 693-1999; email chatmon.veneta@dol.gov.

Instructions. All submissions must include the Agency name and docket number for this Federal Register notice (Docket No. OSHA-2012-0020). Because of security-related procedures, submission by regular mail may result in significant delay in receipt. Please contact the OSHA Docket Office for information about security procedures for making submissions. For additional information about submitting comments, requests to speak and speaker presentations, see the SUPPLEMENTARY INFORMATION section of this notice.

Comments, requests to speak and speaker presentations, including personal information provided, will be placed in the public docket and may be available online. Therefore, OSHA cautions interested parties about submitting personal information, such as social security numbers and birthdates.

FOR FURTHER INFORMATION CONTACT: For press inquiries. Mr. Frank Meilinger, OSHA, Office of Communications, U.S. Department of Labor, Room N-3647, 200 Constitution Avenue NW., Washington, DC 20210; telephone (202) 693-1999; email meilinger.francis2@dol.gov.

For general information about WPAC and WPAC meetings. Ms. Laura Seeman, OSHA, Directorate of Whistleblower Programs, U.S. Department of Labor, Room N-4624, 200 Constitution Avenue NW., Washington, DC 20210; telephone (202) 693-2199; email seeman.laura@dol.gov.

SUPPLEMENTARY INFORMATION:

WPAC Meeting

WPAC will meet Tuesday, January 29, 2013, in Washington, DC. WPAC meetings are open to the public.

WPAC advises the Secretary of Labor (Secretary) and Assistant Secretary of Labor for Occupational Safety and Health (Assistant Secretary) on ways to improve the fairness, efficiency and transparency of OSHA's whistleblower investigations. WPAC operates in compliance with the Federal Advisory Committee Act (5 U.S.C. App. 2) and its implementing regulations (41 CFR Part 102-3).

The tentative agenda of the WPAC meeting includes:

Remarks from the Assistant Secretary;

Presentation by the Director of OSHA's Directorate of Whistleblower Programs on recent initiatives;

Remarks and explanation of meeting order and agenda from WPAC Chair;

Discussion on such topics such as improving customer service to workers and employers, improving the investigative and enforcement process, improvements of regulations governing OSHA investigations, and recommendations for cooperative activities with federal agencies responsible for areas also covered by the whistleblower protection statutes enforced by OSHA;

Public comments.

OSHA transcribes WPAC meetings and prepares detailed minutes of the meetings. OSHA places the meeting transcripts and minutes in the public record of the meeting. The public record also includes speaker presentations, comments and other materials submitted to WPAC.

Public Participation

WPAC meetings. WPAC meetings are open to the public. Any individual attending meetings at the U.S. Department of Labor must enter the building at the Visitors' Entrance, 3rd and C Streets NW., and pass through Building Security. Attendees must have valid photo identification to enter the building. Please contact Ms. Seeman for additional information about building security measures for attending the WPAC meeting.

Individuals needing special accommodations to attend the WPAC meeting should contact Ms. Chatmon.

Submission of written comments, requests to speak and speaker presentations. Interested parties must submit written comments, requests to speak at the WPAC meeting and speaker presentations by January 18, 2013, using one of the methods listed in the ADDRESSES section. All submissions must include the Agency name and docket number for this Federal Register notice (Docket No. OSHA-2012-0020). OSHA will provide submissions to WPAC members prior to the meeting.

Because of security-related procedures, submissions by regular mail may result in significant delay in receipt. Please contact the OSHA Docket Office for information about security procedures for submitting materials by hand delivery, express delivery, messenger or courier service.

Requests to speak must state the amount of time requested to speak, the interest the individual represents (e.g., organization name), if any, and a brief outline of the presentation. Electronic speaker presentations (e.g., PowerPoint) must be compatible with PowerPoint 2010 and other Microsoft 2010 formats. Requests to address WPAC may be granted at the discretion of the WPAC chair and as time permits.

Public Docket of the WPAC meeting. OSHA puts comments, requests to speak and speaker presentations, including any personal information you provide, in the public record of this WPAC meeting without change and those documents may be available online at http://www.regulations.gov. Therefore, OSHA cautions individuals about submitting certain personal information such as social security numbers and birthdates.

OSHA also puts the meeting transcripts and minutes and other documents from the WPAC meeting in the public record of the WPAC meeting. Although all submissions are listed in the http://www.regulations.gov index, some documents (e.g., copyrighted materials) are not publicly available to read or download through that Web site. All submissions, including copyrighted material, are available for inspection and copying in the OSHA Docket Office.

To read or download documents in the public record of the WPAC meeting, go to Docket No. OSHA-2012-0020 at http://www.regulations.gov. Please contact the OSHA Docket Office for information about materials not available through that Web site and for assistance in using the Internet to locate submissions and other documents in the public record.

Electronic copies of this Federal Register notice are available at http://www.regulations.gov. This notice, as well as news releases and other relevant information, also is available at the OSHA Web site at http://www.osha.gov.

Authority and Signature

David Michaels, Ph.D., MPH, Assistant Secretary of Labor for Occupational Safety and Health, directed the preparation of this notice under the authority granted by the Federal Advisory Committee Act (FACA), as amended (5 U.S.C. App. 2), its implementing regulations (41 CFR Part 102-3), chapter 1600 of Department of Labor Management Series 3 (Mar. 17, 2008), Secretary of Labor's Order 1-2012 (Jan. 18, 2012), 77 FR 3912 (Jan. 25, 2012), and the Secretary of Labor's authority to administer the whistleblower provisions found in Section 11(c) of the Occupational Safety and Health Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); the Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation, and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. 2087; Section 1558 of the Affordable Care Act, Public Law 111-148; the Consumer Financial Protection Act of 2010, 12 U.S.C.A. 5567; the Seaman's Protection Act, 46 U.S.C. 2114; Section 402 of the FDA Food Safety Modernization Act, Public Law 111-353; and Section 31307 of the Moving Ahead for Progress in the 21st Century Act, Public Law 112-141.

Signed at Washington, DC, on December 19, 2012.
David Michaels,
Assistant Secretary of Labor for Occupational Safety and Health.

[FR Doc. 2012-30958 Filed 12-21-12; 4:15 pm]

BILLING CODE 4510-26-P